DEPARTMENT OF DEFENSE

Department of the Army

Requirement for Commercial Users To Use Commercial Public Key Information (PKI) Certificate

AGENCY: Department of the Army, DoD. Surface Deployment and Distribution Command (SDDC).

ACTION: Notice.

SUMMARY: To implement DoD Instruction 8520.2, dated 1 April 2004, SDDC will require all commercial accounts accessing transportation systems and applications to use a commercial PKI certificate or Transportation Workers Identification Credential (TWIC). This requirement will enhance the security for authentication, digital signatures and encryption.

DATES: Effective date: October 1, 2011.

ADDRESSES: Submit comments to SDDC/G6/IMA/TSS, 709 Ward Dr., Bldg 1990, Scott AFB, IL 62225 ATTN: ETA Program Manager.

FOR FURTHER INFORMATION CONTACT: ETA Program Manager at sddc.safb.pki@us.army.mil. Technical questions should be addressed to the source of certificate.

SUPPLEMENTARY INFORMATION: The Department of Defense (DOD) and the U.S. Army are enhancing customer identification security as part of an overall program to provide a stronger and more secure authentication process for accessing DOD information systems. As of 1 October 2011, Surface Deployment and Distribution Command (SDDC) will meet this DOD mandate by requiring the use of a digital certificate for industry partners requiring access to SDDC information systems. Userid and password access will be discontinued on 30 September 2011.

The External Certification Authority (ECA) program supports the issuance of DOD-approved certificates to industry partners and other external entities and organizations that conduct business with the DOD. The ECA program is designed to provide a mechanism for these entities to securely communicate with the DOD and authenticate to DOD Information Systems. Additional information can be found at: http://iase.disa.mil/pki/eca/.

The ECA Certificates can be purchased through three sources: VeriSign, Operational Research Consultants (ORC), or Identrust. The following URLs provide additional information and links to purchase sources:

http://www.identrust.com/index.html

https://www.verisign.com/authentication/government-authentication/DOD-interoperability/index.html

http://www.eca.orc.com/index.html

This ECA Certificate purchase information is provided as a convenience to our industry partners and does not constitute endorsement of particular commercial entities by the Surface Deployment and Distribution Command, the United States Department of the Army, or the Department of Defense. We do not exercise any control over the information you may find at these sites or the security of these sites; responsibility for such remains with the individual companies represented.

An alternative identification security option is the Transportation Worker Identification Credential (TWIC). TWIC requirements and how to get a TWIC can be found at the TWIC Web site at: http://www.tsa.gov/public (click on “what we do”, search “TWIC”).

References: Department of Defense Instruction number 8520.2, 1 April 2004, 4.4 Joint Task Force-Global Network Operations (JTF-GNO) Communication Tasking Order (CTO) 07-015 Task 10.

Miscellaneous: DOD Instruction 8520.2 can be accessed at the following Web site: DoD Instruction 8520.2 (http://www.cac.mil/assets/pdfs/DoDD_8520.2.pdf).

Randy Moore, CAPT, USN,
Division Chief, G6, Information Management/CIO.

[FR Doc. 2010-33066 Filed 12-30-10; 8:45 am]

BILLING CODE 3710-08-P